FEDERAL COMMUNICATIONS COMMISSION

47 CFR Part 64

[WC Docket Nos. 22-238, 11-42, 21-450; FCC 23-96, FR ID 190866]

Supporting Survivors of Domestic and Sexual Violence; Lifeline and Link Up Reform Modernization

AGENCY: Federal Communications Commission.

ACTION: Final rule; correction.

SUMMARY: The Federal Communications Commission (Commission) is correcting a final rule that appeared in the Federal Register on December 5, 2023. The document issued final rules implementing the Safe Connections Act of 2022 (Safe Connections Act or SCA), taking significant steps to improve access to communications services for survivors of domestic abuse and related crimes.

DATES:

Effective date: This correction is effective January 14, 2024.

Compliance date: Compliance with the revisions to 47 CFR 64.2010 is delayed indefinitely. The FCC will publish a document in the Federal Register announcing the compliance date for that section.

FOR FURTHER INFORMATION CONTACT: For further information, contact Melissa Kirkel at melissa.kirkel@fcc.gov or 202-418-7958.

SUPPLEMENTARY INFORMATION: The Commission is correcting a final rule that appeared in the Federal Register on December 5, 2023, at 88 FR 84406, which issued final rules implementing the SCA, taking significant steps to improve access to communications services for survivors of domestic abuse and related crimes. A subsequent rule published on December 8, 2023, at 88 FR 85814, also added a paragraph (h) to § 64.2010. This document corrects the December 5 rule's addition of § 64.2010(h) by redesignating it as paragraph (i) and revising it to account for a reference within.

Correction

Accordingly, in FR Rule Doc. No. 2023-26605 appearing on page 84406 in the issue of Tuesday, December 5, 2023, make the following correction:

1. On page 84448, in the first column, correct amendatory instruction 10 amending § 64.2010, redesignate paragraph (h) as paragraph (i), and revise newly redesignated paragraph (i) to read as follows:

10. Amend § 64.2010 by revising paragraph (f) and adding paragraph (i) to read as follows:

§ 64.2010 [Corrected]

* * * * *

(i) Compliance date. Compliance with the provision in paragraph (f) of this section applicable to line separation requests under 47 U.S.C. 345 and subpart II of this part will not be required until this paragraph (i) is removed or contains a compliance date, which will not occur until the later of July 15, 2024; or after OMB completes review of any information collection requirements in subpart II of this part that the Wireline Competition Bureau determines is required under the Paperwork Reduction Act or the Wireline Competition Bureau determines that such review is not required. The Commission directs the Wireline Competition Bureau to announce a compliance date for the requirements of paragraph (f) by subsequent Public Notice and notification in the Federal Register and to cause this section to be revised accordingly.

Federal Communications Commission.
Marlene Dortch,
Secretary.

[FR Doc. 2023-27840 Filed 12-20-23; 8:45 am]

BILLING CODE 6712-01-P